DEPARTMENT OF ENERGY

Federal Energy Regulatory Commission

Notice of Application and Applicant Prepared Environmental Assessment Accepted for Filing, Soliciting Motions To Intervene and Protests, and Soliciting Comments, Final Terms and Conditions, Recommendations, and Prescriptions

March 23, 2001.

Take notice that the following hydroelectric application and applicant prepared environmental assessment (APEA) has been filed with the Commission and is available for public inspection.

a. Type of Application: New Major License.

b. Project No.: P-271-062.

c. Date Filed: December 18, 2000.

d. Applicant: Entergy Arkansas, Inc.

e. Name of Project: Carpenter-Remmel Hydroelectric Project.

f. Location: On the Ouachita River in Garland and Hot Springs Counties, Arkansas, immediately downstream from the U.S. Army Corps of Engineers Blakely Mountain Dam. The Carpenter-Remmel Hydroelectric Project includes the Carpenter development at river mile 461 and the Remmel development at river mile 450. There are 34.3 acres of federally owned lands within the project boundary around Lake Hamilton which are under the supervision of the U.S. Army Corps of Engineers.

g. Filed Pursuant to: Federal Power Act 16 U.S.C. 791(a)-825(r).

h. Applicant Contact: Mr. W. Henry Jones, Relicensing Project Manager, Entergy Fossil Operations, P.O. Box 218, Jones Mills, AR 72105, (501) 844-2148 or email: wjones7@Entergy.com; Mr. Hugh T. McDonald, President, Entergy Arkansas, Inc., 425 West Capitol Avenue, Little Rock, AR 72201, (501) 377-4372.

i. FERC Contact: Ed Lee, (202) 219-2809 or E-Mail ed.lee@ferc.fed.us.

j. Deadline for filing motions to intervene and protests, comments, and final recommendations, terms and conditions, and prescriptions: 60 days from the issuance of this notice.

All documents (original and eight copies) should be filed with: David P. Boergers, Secretary, Federal Energy Regulatory Commission, 888 First Street, NE, Washington, DC 20426. Comments, protests and interventions may be filed electronically via the internet in lieu of paper. See 18 CFR 385.2001(a)(1)(iii) and the instructions on the Commission's web site at http://www.ferc.fed.us/efi/doorbell.htm.

The Commission's Rules of Practice require all intervenors filing documents with the Commission to serve a copy of that document on each person that is on the official service list for the project. Further, if an intervenor files comments or documents with the Commission relating to the merits of an issue that may affect the responsibilities of a particular resource agency, they must also serve a copy of the document on that resource agency.

k. The license application and the APEA have been accepted for filing and are now ready for environmental analysis. No additional information or studies are needed to prepare the Commission's environmental assessment. Comments, as indicated above, are now being requested from interested parties. The applicant will have 45 days following the end of this comment period to respond to any comments filed within the comment period.

l. Description of Project: The Carpenter and Remmel developments are comprised of the following physical facilities.

(A) The Carpenter development, located furthest upstream, consists of the following principal features: (i) a concrete gravity structure approximately 108 feet high (measured from the top of the Taintor gates to the original riverbed) and approximately 1,165 feet long, including a 453-foot-long spillway section, 354 feet of which is gated by 10 Taintor gates, 28 feet high by 34 feet wide and two abutment sections; (ii) a reservoir, Lake Hamilton, approximately 18.25 miles long with approximately 198 miles of shoreline, approximately 6,897 acres of surface area, at elevation (El.) 399.9 mean sea level (msl), and approximately 6,800 acre-feet of usable storage capacity; (iii) an integral intake and powerhouse structure approximately 278 feet long by 135 feet high, with two generating units whose nameplate ratings total approximately 56,000 kW; (iv) two vertical Francis type turbines, each with a rated output of 39,500 Hp at a discharge capacity of 4,800 cubic feet per second (cfs) at 89 feet of head; (v) 13.8-kilovolt (kV) generator leads; (vi) two 115-kV transmission lines from the Carpenter powerhouse transformer bank to the 115-kV switchyard; and (vii) appurtenant facilities to connect to the 115-kV switchyard.

(B) The Remmel development, located approximately 11.78 miles downstream of the Carpenter development, consists of the following principal features: (i) a modified Ambursen-type slab and buttress dam approximately 60 feet high (measured from the top of the Taintor gates to the original riverbed) and approximately 900 feet long, including a 360-foot-long spillway section, 330 feet of which is gated by 12 Taintor gates, 15 feet high by 27.5 feet wide, and two abutment sections; (ii) a reservoir, Lake Catherine, approximately 11.78 miles long with approximately 56 miles of shoreline, approximately 1,642 acres of surface area, at El. 304 msl, and approximately 2,400 acre-feet of usable storage capacity; (iii) an integral intake and powerhouse structure approximately 105 feet long by 48.4 feet high, with three generating units whose nameplate ratings total approximately 9,300 kW; (iv) three vertical Francis type turbines each with nameplate ratings of 4,500 Hp at a discharge capacity of 1,100 cfs at a head of 42 feet; (v) 4.16-kV generator leads; (vi) two banks of 4/34.5-kV transformers that raise the generator voltage for transmission over a distance of approximately 565 feet to a substation and then to the electrical grid; and (vii) a single span of 115-kV transmission line extends northeasterly from the substation for approximately 72 feet to a dead-end structure where it connects into a portion of the 115-kV transmission system.

The project has a total nameplate installed capacity of 65.3 MW and a average annual generation of approximately 188 GWh.

m. A copy of the application is available for inspection and reproduction at the Commission's Public Reference Room, located at 888 First Street, NE, Room 2-A, Washington, D.C. 20426, or by calling (202) 208-1371. The application may be viewed on http://www.ferc.fed.us/online/rims.htm (call (202) 208-2222 for assistance). A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those persons may become parties to the proceeding who file motions to intervene in accordance with the Commission's Rules. Comments, protests, and motions to intervene must be received at the Commission on or before the close of the comment date.

The Commission directs, pursuant to Section 4.34(b) of the Regulations (see Order No. 533 issued May 8, 1991, 56 FR 23108, May 20, 1991) that all comments, recommendations, terms and conditions and prescriptions concerning the application and APEA be filed with the Commission within 60 days from the issuance date of this notice. All reply comments must be filed with the Commission within 105 days from the date of this notice.

These deadlines may be extended by the Commission, but only upon a showing of good cause or extraordinary circumstances in accordance with 18 CFR 385.2008.

All filings must (1) bear in all capital letters the title “PROTEST” “MOTION TO INTERVENE”, “COMMENTS,” “REPLY COMMENTS,” “RECOMMENDATIONS,” “TERMS AND CONDITIONS,” or “PRESCRIPTIONS;” (2) set forth in the heading the name of the applicant, “Entergy Arkansas, Inc.” and the project number of the application, “Project No. 271,” to which the filing pertains; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Linwood A. Watson, Jr.,
Acting Secretary.

[FR Doc. 01-7717 Filed 3-28-01; 8:45 am]

BILLING CODE 6717-01-M